ENVIRONMENTAL PROTECTION AGENCY

[EPA-HQ-OPP-2018-0014; FRL-9999-39]

Cancellation Order for Certain Pesticide Registrations and Amendments To Terminate Uses

Correction

In notice document 2019-21122 beginning on page 51561 in the issue of Monday, September 30, 2019, make the following correction:

On page 51564, in the second column, in the fourth paragraph, in the fourth line “September 30, 2019” should read “September 30, 2020”.

[FR Doc. C1-2019-21122 Filed 10-25-19; 8:45 am]

BILLING CODE 1301-00-D